DEPARTMENT OF THE INTERIOR

National Park Service

[NPS-WASO-NAGPRA-NPS0035803; PPWOCRADN0-PCU00RP14.R50000]

Notice of Inventory Completion: Alabama Department of Transportation, Montgomery, AL

AGENCY: National Park Service, Interior.

ACTION: Notice.

SUMMARY: In accordance with the Native American Graves Protection and Repatriation Act (NAGPRA), the Alabama Department of Transportation (ALDOT) has completed an inventory of human remains and associated funerary objects and has determined that there is a cultural affiliation between the human remains and associated funerary objects and Indian Tribes or Native Hawaiian organizations in this notice. The human remains and associated funerary objects were removed from Montgomery County, AL.

DATES: Repatriation of the human remains and associated funerary objects in this notice may occur on or after June 8, 2023.

ADDRESSES: William B. Turner, Alabama Department of Transportation, 1409 Coliseum Boulevard, Montgomery, AL 36110, telephone (334) 242-6144, email turnerw@dot.state.al.us.

SUPPLEMENTARY INFORMATION: This notice is published as part of the National Park Service's administrative responsibilities under NAGPRA. The determinations in this notice are the sole responsibility of the Alabama Department of Transportation. The National Park Service is not responsible for the determinations in this notice. Additional information on the determinations in this notice, including the results of consultation, can be found in the inventory or related records held by the Alabama Department of Transportation.

Description

In 2002, human remains representing, at minimum, six individuals were removed from the Madison Park Site, 1Mt318, in Montgomery County, AL, by University of South Alabama Center for Archaeological Studies archeologists under contract with ALDOT. The human remains were removed during Phase III Data Recovery excavations prior to road widening and bridge replacement of US 231. Based on analysis of material cultural remains recovered from 1Mt318, the site is considered a Late Woodland Village occupied during the Dead River (A.D. 500-700), Hope Hull (A.D. 700-900), and Autauga (A.D. 800-1100) Phases. These human remains, together with the associated funerary objects are stored at the University of Alabama Office of Archaeological Research (OAR) at Moundville, AL. No known individuals were identified. The 10 associated funerary objects are six lots of burial fill, two large animal teeth, and two freshwater mussel shells.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the Alabama Department of Transportation has determined that:

• The human remains described in this notice represent the physical remains of six individuals of Native American ancestry.

• The 10 objects described in this notice are reasonably believed to have been placed with or near individual human remains at the time of death or later as part of the death rite or ceremony.

• There is a relationship of shared group identity that can be reasonably traced between the human remains and associated funerary objects described in this notice and The Muscogee (Creek) Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 8, 2023. If competing requests for repatriation are received, the Alabama Department of Transportation must determine the most appropriate requestor prior to repatriation. Requests for joint repatriation of the human remains and associated funerary objects are considered a single request and not competing requests. The Alabama Department of Transportation is responsible for sending a copy of this notice to the Indian Tribe identified in this notice.

Authority: Native American Graves Protection and Repatriation Act, 25 U.S.C. 3003, and the implementing regulations, 43 CFR 10.9, 10.10, and 10.14.

Dated: May 3, 2023.
Melanie O'Brien,
Manager, National NAGPRA Program.

[FR Doc. 2023-09765 Filed 5-8-23; 8:45 am]

BILLING CODE 4312-52-P